DEPARTMENT OF STATE

[Public Notice 5586]

Bureau of Political Military Affairs; Arms Export Control Act; Determinations

Pursuant to section 654(c) of the Foreign Assistance Act of 1961, as amended, notice is hereby given that:

(1) On August 18, 2006, the President made a determination pursuant to section 36 of the Arms Export Control Act, as amended; and

(2) The President has concluded that publication of such determination would be harmful to the national security of the United States.

Michael W. Coulter,
Deputy Assistant Secretary, Department of State.

[FR Doc. E6-17796 Filed 10-23-06; 8:45 am]

BILLING CODE 4710-25-P